DEPARTMENT OF TRANSPORTATION

Federal Railroad Administration

Notice of Application for Approval of Discontinuance or Modification of a Railroad Signal System or Relief From Requirements

Pursuant to Title 49 Code of Federal Regulations (CFR) part 235 and 49 U.S.C. 20502(a), the following railroads have petitioned the Federal Railroad Administration (FRA) seeking approval for the discontinuance or modification of the signal system or relief from the requirements of 49 CFR part 236 as detailed below.

Docket Number. FRA-2001-10217

Applicants:

Norfolk Southern Corporation, Mr. Brian L. Sykes, Chief Engineer C&S Engineering, 99 Spring Street, S.W., Atlanta, Georgia 30303.

West Tennessee Railroad, Mr. Bruce Hohorst, President, One Depot Street,Trenton, Tennessee 38382.

Norfolk Southern Corporation (NS) and the West Tennessee Railroad jointly seek approval of the proposed discontinuance and removal of the automatic block signal system on the Alabama Division, Jackson District, between Fulton Junction, milepost IC-406.2, near Fulton, Kentucky and Ruslor Junction, milepost IC-526.0, near Corinth, Mississippi, a distance of approximately 120 miles. The proposed changes include the removal of all automatic block signals, conversion of the spring switches to hand operation, and retention of the interlocking signals at Milan, Tennessee, where the NS single main track crosses at grade the single main track of CSX Transportation, Incorporated.

The reason given for the proposed changes is that present and anticipated traffic density and train movements do not warrant retention of the signal system.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PI-401, Washington, DC 20590-0001. Communications received within 45 days of the date of this notice will be considered by the FRA before final action is taken. Comments received after that date will be considered as far as practicable. All written communications concerning these proceedings are available for examination during regular business hours (9:00 a.m.-5:00 p.m.) at DOT Central Docket Management Facility, Room PI-401 (Plaza Level), 400 Seventh Street, SW, Washington, DC 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, D.C. on September 12, 2001.
Grady C. Cothen, Jr.,
Deputy Associate Administrator for Safety Standards and Program Development.

[FR Doc. 01-23546 Filed 9-20-01; 8:45 am]

BILLING CODE 4910-06-P